FEDERAL COMMUNICATIONS COMMISSION

[DA 10-2318 and DA 11-55]

Emergency Access Advisory Committee; Announcement of Establishment, and of Members and Co-Chairpersons, and Announcement of Date of First Meeting

AGENCY: Federal Communications Commission.

ACTION: Notice; correction.

SUMMARY: The Federal Communication Commission published a document in the Federal Register on December 15, 2010 (75 FR 78244), announcing the establishment of the Emergency Access Advisory Committee (hereinafter “the Committee” or “EAAC”) pursuant to The Twenty-First Century Communications and Video Accessibility Act (“CVAA”), the date of the first meeting, and further announced the membership of the Committee. The Notice contained incorrect and/or omitted names of members or their affiliations and did not designate alternates.

FOR FURTHER INFORMATION CONTACT: Cheryl King, Consumer and Governmental Affairs Bureau, Federal Communications Commission, 202-418-2284 (voice), 202-418-0416 (TTY), or Cheryl.King@fcc.gov (e-mail).

Correction

In the Federal Register of December 15, 2010, in FR Doc. 2010-31513, on page 78244, column 2, correct the last paragraph of the SUPPLEMENTARY INFORMATION caption to read:

The Chairman of the Commission is appointing thirty-four (34) members of the EAAC. Of this number, eleven (11) represent interests of persons with disabilities and researchers; seven (7) represent interests of communication service providers; six (6) represent interests of State and local emergency responders and emergency subject matter technologies; three (3) represent venders, developers and manufacturers of systems, facilities and equipment; four(4) represent Federal agencies; and three (3) represent industry organizations. The EAAC's membership is designed to be representative of the Commission's many constituencies, and the diversity achieved ensures a balance among individuals with disabilities and other stakeholders, as required by the CVAA. All appointments are effective immediately and shall terminate December 7, 2012, or when the Committee is terminated, whichever is earlier.

On page 78244, column 3, paragraph 2 and continuing on page 78245, column 1, paragraph 1, correct the list of appointed members of the EAAC to read:

The membership of the EAAC, designated by organization or affiliation as appropriate, is as follows:

• American Foundation for the Blind—Brad Hodges

• AT&T—Brian Daly, alternate Peter Musgrove

• Avaya Labs—Paul Michaelis, alternate Mark Fletcher

• Center for Public Safety Innovation/National Terrorism Preparedness Institute—Christopher Littlewood

• City of Los Angeles Department on Disability and National Emergency Number Association's Accessibility Committee—Richard Ray

• Comcast Cable—Angel Arocho

• Communication Service for the Deaf—Alfred Sonnenstrahl

• CTIA, The Wireless Association—Matthew Gerst

• Fairfax County Emergency Management—Bruce McFarlane

• Gallaudet University—Norman Williams

• Hearing, Speech & Deafness Center—Donna Platt

• Intrado, Inc.—John Snapp

• Livingston Parrish (Louisiana) Communication District 911—Ronnie Cotton

• Microsoft—Bernard Aboba, alternate Laura Ruby

• National Association of the Deaf, Telecommunications for the Deaf, Inc. and NorCal Center for Deaf and Hard of Hearing—Sheri A. Farinha, alternate Claude Stout

• Omnitor—Gunnar Hellstrom

• Partners for Access, LLC—Joel Ziev

• Purple Communications—Mark Stern

• RealTime Text Task Force (R3TF)—Arnoud van Wijk

• Research in Motion (RIM)—Gregory Fields

• Speech Communication Assistance for the Telephone, Inc.—Rebecca Ladew

• TeleCommunications Systems, Inc.—Don Mitchell

• Telecommunications Industry Association and the Mobile Manufacturers Forum—David J. Dzumba

• Time Warner Cable Communications—Martha (Marte) Kinder

• T-Mobile, 911 Policy—Jim Nixon

• Trace R&D Center, University of Wisconsin (IT&Tel-RERC)—Gregg Vanderheiden

• U.S. Department of Commerce, NIST—Douglas Montgomery

• U.S. Department of Homeland Security, Federal Emergency Management Agency—Marcie Roth

• U. S. Department of Justice, Civil Rights Division/DRS—Robert Mather

• U. S. Department of Transportation, NHTSA—Laurie Flaherty

• Verizon Communications—Kevin Green, alternate Susan Sherwood

• Vonage Holding Corp.—Brendan Kasper

• Washington Parish, LA Communications District—James Coleman

Dated: April 8, 2011.
Federal Communications Commission.
Karen Peltz Strauss,
Deputy Chief, Consumer and Governmental Affairs Bureau.

[FR Doc. 2011-9337 Filed 4-15-11; 8:45 am]

BILLING CODE 6712-01-P